DEPARTMENT OF AGRICULTURE

Forest Service

Crawford Timber Sale, Malheur National Forest, Grant County, Oregon

AGENCY: Forest Service, USDA.

ACTION: Notice of intent to prepare an environmental impact statement.

SUMMARY: The USDA Forest Service will prepare an environmental impact statement (EIS) on a proposal action to treat forested stands, using harvest methods to decrease tree density, increase representation of fire-adapted tree species, as well as decrease existing and activity fuel levels. The connected actions of log hauling will require constructing new road and temporary road, and maintaining and reconstructing existing road. This proposed action would implement a Road Access Travel Management Plan that would close and decommission roads. The alternatives will include the proposed action, no action, and additional alternatives that respond to issues identified during scoping. The agency will give notice of the full environmental analysis and decision making process so interested and affected people may participate and contribute to the final decision.

DATES: Comments concerning the scope of the analysis must be received by November 15, 2003.

ADDRESSES: Send written comments to Michelle Putz, District Writer Editor, Blue Mountain Ranger District, P.O. Box 909, John Day, Oregon 97845 or on-line at comments-pacificnorthwest-malheur-bluemountain@fs.fed.us.

FOR FURTHER INFORMATION CONTACT: Michelle Putz, District Writer Editor, Blue Mountain Ranger District. Phone: (541) 575-3000.

SUPPLEMENTARY INFORMATION: The alternatives being considered were proposed in the original Crawford Vegetative Management Environmental Assessment (EA). The Decision Notice, which selected Alternative 3 was signed on April 26, 2002, was appealed and then remanded back to the Forest for further work following appeal; this EIS has been renamed and is intended to address many of the same needs. Some items in the original EA have been removed from the proposed actions in this EIS, including pre-commercial thinning that is outside of the harvest units to decrease small diameter trees, planting hardwoods, conifer removal from hardwood areas and meadows, cutting hardwoods to stimulate reproduction, caging shrubs, fencing to protect hardwoods, and slashing junipers to create barriers to hardwoods. These items will be addressed in other types of environmental documents under the heading of a categorical exclusion. In addition, this document plans to keep 5.4 miles of Forest Road 1940 open to travel (there had been 4.3 miles of Road 1940 planned for closure in previous NEPA documents). The regeneration Salvage Treatment was dropped for wildlife habitat objectives, following interdisciplinary team review.

Purpose and Need for Action. The purposes and needs for action in this project now are: Move vegetation towards a status more closely resembling historical conditions while protecting soil productivity and protecting or enhancing water quality and reduce fuels to decrease potential fire severity. This project would change the species composition and structure of the vegetation to improve the resiliency of the forested component of the ecosystem. Existing stand densities are higher than historical stand densities, and retard growth to the large tree stage, thus there is a need to increase the number of large trees across the landscape and increase the representation of fire tolerate tree species.

Move toward an efficient, properly located road system that provides adequate public and administrative access, while reducing the risk of sediment reaching streams. Maintain and/or reconstruct remaining roads to limit delivery of sediment into streams and to facilitate harvest activities while improving water quality. To protect water quality and to decrease movement of sediment into streams, unneeded roads causing resource damage need to be decommissioned or closed.

Three previously designated Dedicated Old Growth areas have no Replacement Old Growth (ROG) areas designated; three ROG areas need to be designated. The Malheur National Forest Plan directs the Forest to provide Replacement Old Growth and to complete this process in conjunction with the timber sale planning process.

Capture economic value of material and help achieve a stable economy in the local area.

Proposed Action. The proposal would decrease tree density by harvesting and thinning. Stand treatments include the following harvest methods: shelterwood (167 acres); partial cut (1,343 acres); and commercial thinning (2,568 acres). Treatment would decrease small tree density, reducing competition for nutrients for remaining trees. Timber yarding systems to be utilized are tractor (3,522 acres) and skyline (556 acres). The estimated volume of timber harvested is 11.1 million board feet. Fire and fuel reduction treatments include the following activities: prescribed burning (9,498 acres); fuel reduction (2,130 acres); and burning within harvest units (517 acres). Three new areas for Replacement Old Growth (ROGs) areas to Dedicated Old Growth (DOGs) stands are provided for pileated woodpecker and pine marten.

The Crawford Roads Analysis reviewed a portion of the roads within the analysis area. Roads needed for the proposal would include the following: new construction (12.8 miles), temporary construction (4.6 miles), reconstructed (0.1 miles), maintained (60.9 miles), closed (15.2 miles) and decommissioned (24.5 miles). The Road Analysis concentrated on roads within Riparian Habitat Conservation Areas (RHCAs) and roads that might be needed for proposed activities, as haul routes. Roads within RHCAs contributing sediment or which potentially could contribute sediment were considered as candidates for decommissioning. No new road construction is proposed within RHCAs. This is permanent, new road construction that remains a part of the transportation system.

Proposed activities would occur in the Crawford Creek, Mill Creek, Phipps Meadow, Dry Fork, Clear Creek, Bridge Creek, Squaw Creek, and Idaho/Summit Creek subwatersheds of the Upper Middle Fork John Day watershed.

Issues. Preliminary issues were identified and include the potential effects of the proposed action on: management indicator species, threatened, endangered, and sensitive species, and neotropical migratory birds associated with dense forest habitat; soil compaction; increase sediment movement into streams; reduce water quality; and continued vehicle access in the area.

Alternatives. A full range of alternatives will be considered including a “No Action” alternative in which none of the activities proposed above would be implemented. Based on the issues gathered through scoping, the action alternatives could differ in the silvicultural and post-harvest treatments prescribed, the amount and location of harvest, or the amount and location of fuels reduction activity.

Scoping Process. The public will have an opportunity to participate at several points during the analysis including the scoping period after publication of the Notice of Intent, and the draft EIS in the Federal Register. Notification of these opportunities will also appear in subsequent issues of the Malheur National Forest's Schedule of Proposed Activities; letters to agencies, organizations, and individuals who have previously indicated their interest in such activities; and in the Blue Mountain Eagle. Public meetings may be scheduled during the winter of 2003/2004 and the spring of 2004. The scoping process will include identifying potential issues, identifying major issues to be analyzed in depth, eliminating non-significant issues, considering additional alternatives based on themes which will be derived from issues recognized during scoping activities, and identifying potential environmental effects of the proposed action and alternatives (i.e. direct, indirect, and cumulative effects).

Comments. Public comments about this proposal are requested in order to assist in properly scoping issues, to determine how to best manage the resources, and to fully analyze environmental effects. Comments received to this notice, including names and addresses of those who comment, will be considered part of the public record on this proposed action and will be available for public inspection. Comments submitted anonymously will be accepted and considered; those who submit anonymous comments will not have standing to appeal the subsequent decision under 36 CFR parts 215 and 217. Additionally, pursuant to 7 CFR 1.27(d), any person may request the agency to withhold a submission from the public record by showing how the Freedom of Information Act (FOIA) permits such confidentiality. Persons requesting such confidentiality should be aware that under FOIA, confidentiality may be granted in only very limited circumstances, such as to protect trade secrets. The Forest Service will inform the requester of the agency's decision regarding the request for confidentiality and, where the request is denied, the agency will return the submission and notify the requester that the comments may be resubmitted with or without name and address within a specified number of days.

The draft EIS will be filed with Environmental Protection Agency (EPA) and available for public review by May 2004. The comment period on the draft EIS will be 45 days from the date EPA publishes the notice of availability of the draft in the Federal Register. The final EIS will be released in September 2004.

The Forest Service believes, at this early stage, it is important to give reviewers notice of several court rulings related to public participation in the environmental review process. First, reviewers of a draft EIS must structure their participation in the environmental review of the proposal so that it is meaningful and alerts an agency to the reviewer's position and contentions. Vermont Yankee Nuclear Power Corp. v. NRDC, 435 U.S. 519, 533 (1978). Also, environmental objections that could be raised at the draft EIS stage but that are not raised until after completion of the final EIS may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the 45 day comment period so that substantive comments and objections are made available to the Forest Service at a time when it can meaningfully consider them and respond to them in the final EIS.

To assist the Forest Service in identifying and considering issues and concerns on the proposed action, comments on the draft EIS should be as specific as possible. It is also helpful if comments refer to specific pages or chapters of the draft EIS. Comments may also address the adequacy of the draft EIS or the merits of the alternatives formulated and discussed in the statement. Reviewers may wish to refer to the Council on Environmental Quality Regulations for implementing the procedural provisions of the National Environmental Policy Act at 40 CFR 1503.3 in addressing these points.

In the final EIS, the Forest Service is required to respond to substantive comments received during the comment period for the draft ESI. The Forest Service is the lead agency. The Responsible Official is the Forest Supervisor for the Malheur National Forest. The Responsible Official will decide where and whether or not to implement the proposed projects and will document the Crawford Timber Sale and Thinning decision and reasons for the decision in the Record of Decision. That decision will be subject to Forest Service Appeal Regulations (36 CFR Part 215).

Dated: September 30, 2003.
Roger W. Williams,
Forest Supervisor.

[FR Doc. 03-25584 Filed 10-8-03; 8:45 am]

BILLING CODE 3410-11-M